DEPARTMENT OF THE TREASURY

Internal Revenue Service

Open Meeting of the Area 4 Taxpayer Advocacy Panel (Including the States of Illinois, Indiana, Kentucky, Michigan, Ohio, Tennessee, and Wisconsin)

AGENCY: Internal Revenue Service (IRS), Treasury.

ACTION: Notice of Meeting.

SUMMARY: An open meeting of the Area 4 Taxpayer Advocacy Panel will be conducted. The Taxpayer Advocacy Panel is soliciting public comments, ideas, and suggestions on improving customer service at the Internal Revenue Service.

DATES: The meeting will be held Thursday, April 22, 2010, Friday, April 23, 2010, and Saturday, April 24, 2010.

FOR FURTHER INFORMATION CONTACT: Ellen Smiley at 1-888-912-1227 or 414-231-2360.

SUPPLEMENTARY INFORMATION: Notice is hereby given pursuant to Section 10(a)(2) of the Federal Advisory Committee Act, 5 U.S.C. App. (1988) that an open meeting of the Area 4 Taxpayer Advocacy Panel will be held Thursday, April 22, 2010 from 1 p.m. to 5 p.m., Friday, April 23, 2010 from 8 a.m. to 5 p.m., and Saturday, April 24, 2010 from 8 a.m. to 12 p.m. Central Time in Chicago, IL. The public is invited to make oral comments or submit written statements for consideration. Notification of intent to participate must be made with Ellen Smiley. For more information, please contact Ms. Smiley at 1-888-912-1227 or 414-231-2360, or write TAP Office, Stop 1006MIL, 211 West Wisconsin Avenue, Milwaukee, WI 53203-2221 or post comments to the Web site: http://www.improveirs.org.

The agenda will include various IRS issues.

Dated: March 8, 2010.
Shawn F. Collins,
Acting Director, Taxpayer Advocacy Panel.

[FR Doc. 2010-5408 Filed 3-11-10; 8:45 am]

BILLING CODE 4830-01-P